DEPARTMENT OF COMMERCE

National Oceanic and Atmospheric Administration

50 CFR Part 216

[Docket No. 071105649-8028-01]

RIN 0648-AW22

Marine Mammals; Advance Notice of Proposed Rulemaking

AGENCY: National Marine Fisheries Service (NMFS), National Oceanic and Atmospheric Administration (NOAA), Commerce.

ACTION: Advance notice of proposed rulemaking; extension of comment period.

SUMMARY: On January 31, 2008, NMFS published an Advanced Notice of Proposed Rulemaking (ANPR) soliciting public comments on revisions to its implementing regulations governing the taking of stranded marine mammals. Written comments were due by March 31, 2008. NMFS has decided to allow additional time for submission of public comments on this action.

DATES: The public comment period for this action has been extended for 30 days. Written comments must be received or postmarked by April 30, 2008.

ADDRESSES: You may submit comments by any one of the following methods:

• Electronic Submissions: Submit all electronic public comments via the Federal eRulemaking Portal: http://www.regulations.gov;

• Fax: 301-427-2522, Attn: Chief, Marine Mammal and Sea Turtle Conservation Division (Stranding Regulations ANPR); or

• Mail: Chief, Marine Mammal and Sea Turtle Conservation Division, Attn: Stranding Regulations ANPR, Office of Protected Resources, NMFS, 1315 East-West Highway, Room 13635, Silver Spring, MD 20910.

Instructions: All comments received are part of the public record and will generally be posted to http://www.regulations.gov without change. All Personal Identifying Information (for example, name, address, etc.) voluntarily submitted by the commenter may be publicly accessible. Do not submit Confidential Business Information or otherwise sensitive or protected information.

NMFS will accept anonymous comments. Attachments to electronic comments will be accepted in Microsoft Word, Excel, WordPerfect, or Adobe PDF file formats only.

FOR FURTHER INFORMATION CONTACT: Sarah Howlett at (301) 713-2322.

SUPPLEMENTARY INFORMATION: The ANPR, published on January 31, 2008 (73 FR 5786), is available upon request and can be found on the NMFS Office of Protected Resources web site: http://www.nmfs.noaa.gov/pr/health/mmpa_anpr.htm.

Dated: March 24, 2008.
David Cottingham,
Chief, Marine Mammal and Sea Turtle Conservation Division, Office of Protected Resources, National Marine Fisheries Service.

[FR Doc. E8-6443 Filed 3-27-08; 8:45 am]

BILLING CODE 3510-22-S